DEPARTMENT OF THE INTERIOR

Fish and Wildlife Service

[Docket Number FWS-R9-MB-2009-N0097; 91200-1231-9BPP]

Migratory Birds; Take of Peregrine Falcons for Use in Falconry

AGENCY: Fish and Wildlife Service, Interior.

ACTION: Notice.

SUMMARY: In December 2008 we completed an Environmental Assessment on take of peregrine falcons for use in falconry. This notice is to inform the public of the allocation of take of nestling and migrant peregrine falcons in 2009 agreed on by the States. It also will inform interested individuals about which States will allow take of nestling or migrant peregrine falcons.

FOR FURTHER INFORMATION CONTACT: Dr. George Allen, Division of Migratory Bird Management, U.S. Fish and Wildlife Service, at 703-358-1825.

SUPPLEMENTARY INFORMATION: Our authority to govern take of raptors is derived from the Migratory Bird Treaty Act (16 U.S.C. 703-712), which prohibits any person from taking, possessing, purchasing, bartering, selling, or offering to purchase, barter, or sell, among other things, raptors (birds of prey) listed in 50 CFR 10.13 unless the activities are allowed under Federal regulations. Take and possession of raptors for use in falconry is governed by regulations at 50 CFR 21.29.

In 2007, we completed an Environmental Assessment (EA) on falconry and raptor propagation take (72 FR 31268; June 6, 2007), in which we selected an alternative that will ensure that take of raptors for these purposes will be well below levels that will affect their populations. However, that EA did not consider of take of fall migrant peregrine falcons (Falco peregrinus), which may originate outside the United States.

We completed an EA on take of migrant peregrine falcons in 2008 (73 FR 74508; December 8, 2008). Our preferred alternative was to allow take of 116 nestling and postfledging first-year peregrine falcons from the nesting period through 31 August west of 100 degrees W longitude (including Alaska), and allow a take of 36 first-year migrant peregrine falcons between 20 September and 20 October from anywhere in the United States east of 100 degrees W longitude.

Allocation of the 36 fall migrant peregrine falcons to be taken from the United States east of 100 degrees W longitude was agreed upon by the Atlantic, Mississippi, and Central Flyways. We expect the allowed take of the fall migrants in 2009 to be as follows:

State | Allowed take
Maryland | 4
Virginia | 4
North Carolina | 3
South Carolina | 2
Georgia | 5
Arkansas | 3
Mississippi | 3
Oklahoma | 2
Texas | 10
Total | 36

In the western United States, the Central and Pacific Flyways allocation complies with the provisions of our 2008 Final Environmental Assessment, to total no more than 41 nestlings in Alaska and 75 in the remaining western States. We expect take of nestling peregrines to be allowed in 2009 in 9 States, as follows:

State | Allowed take
Alaska | 6
Washington | 9
Idaho | 0
Montana | 5
Oregon | 7
Utah | 11
Wyoming | 5
California | 0
Nevada | 0
Colorado | 4
Arizona | 8
New Mexico | 2
Total | 57

Western States continue to have the authority to determine allocation of take of nestlings. Take in previous years has been much less than we allowed, and has been consistent with other take of raptors for falconry. Therefore, after this year we will not publish information about allocation of nestling take.

We expect the Flyways to review the allocation of the take of passage peregrines each year. We will continue to work with them on the issue, and may publish notices about it in the future. As noted in the Final EA on take of migrant peregrines, we will review population and harvest data for Canada, the U.S., and Mexico every five years, or at the request of the Flyway Councils, to reassess the allowable harvest limits. We will publish a Notice in the Federal Register if we determine that the take of nestling or fall migrant peregrines should be changed.

Interested individuals will need to contact each State that will allow take of peregrine falcons to learn whether the State will allow take by a resident of another State.

Dated: June 3, 2009.
Stephen Guertin,
Acting Director, U.S. Fish and Wildlife Service.

[FR Doc. E9-16923 Filed 7-21-09; 8:45 am]

BILLING CODE 4310-55-P